NUCLEAR REGULATORY COMMISSION

[NUREG-1671]

Standard Review Plan for the Recertification of the Gaseous Diffusion Plants Notice of Availability

AGENCY: Nuclear Regulatory Commission.

ACTION: Notice of availability.

SUMMARY: Because of significant changes resulting from previous public comment, the Nuclear Regulatory Commission (NRC) is offering the opportunity for additional public review and comment on the revised Section 6.0, “Technical Safety Requirements,” and Section 8.0, “Nuclear Criticality Safety,” of the draft report NUREG-1671 entitled, “Standard Review Plan for the Recertification of the Gaseous Diffusion Plants.” (GDPs)

DATES: Submit comment to the address listed below by December 6, 2000. Comments received after this date will be considered if it is practical to do so, but the Commission is able to ensure consideration only for comments received on or before this date.

ADDRESSES: Mail written comments to: Chief, Rules and Directives Branch, U.S. Nuclear Regulatory Commission, Washington, DC 20555-0001. Hand deliver comments to 11545 Rockville Pike, Rockville, Maryland 20852, between 7:30 am and 4:15 pm during Federal workdays.

Draft NUREG-1671 is available for inspection and copying for a fee at the NRC public document room (PDR), located at the NRC's headquarters building, One White Flint North, 11555 Rockville Pike, Rockville, MD 20852. A copy of the draft revised Sections 6.0 and 8.0 may also be obtained from the NRC's website for the Division of Fuel Cycle Safety and Safeguards at: http://www.nrc.gov/NMSS/FCSS/fcssindex.html or from the Agency's document management system, called ADAMS, at: http://www.nrc.gov/NRC/ADAMS/index.html.

FOR FURTHER INFORMATION CONTACT: Christopher Tripp, Office of Nuclear Material Safety and Safeguards, U.S. Nuclear Regulatory Commission, Washington, DC 20555, telephone: (301) 415-7733.

Dated at Rockville, Maryland, this 25th day of October, 2000.
For the Nuclear Regulatory Commission.
Eric J. Leeds,
Chief, Special Projects Branch, Division of Fuel Cycle Safety and Safeguards, Office of Nuclear Material Safety and Safeguards.

[FR Doc. 00-28359 Filed 11-3-00; 8:45 am]

BILLING CODE 7590-01-P